DEPARTMENT OF THE INTERIOR

Fish and Wildlife Service

[FWS-HQ-IA-2015-N141; FXIA16710900000-156-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals. With some exceptions, the Endangered Species Act (ESA) and Marine Mammal Protection Act (MMPA) prohibit activities with listed species unless Federal authorization is acquired that allows such activities.

DATES: We must receive comments or requests for documents on or before August 24, 2015. We must receive requests for marine mammal permit public hearings, in writing, at the address shown in the ADDRESSES section by August 24, 2015.

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Monica Thomas, (703) 358-2104 (telephone); (703) 358-2281 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Virginia Aquarium and Marine Center Foundation, Virginia Beach, VA; PRT-55108B

The applicant requests a permit to import one male and one female captive-bred false gharial (Tomistoma schlegelii) for the purpose of enhancement of the survival of the species through captive propagation.

Applicant: Brady Champion Ranch, LLC, Rochelle, TX; PRT-51308B

The applicant requests a permit authorizing interstate and foreign commerce, export, and cull of excess Barasingha (Rucervus duvaucelii), Eld's deer (Rucervus eldii), and Red lechwe (Kobus lechwe) from the captive herd maintained at their facility, for the purpose of enhancement of the survival of the species. This notification covers activities to be conducted by the applicant over a 5-year period.

Applicant: Lionshare Farm Zoological, LLC, Greenwich, CT; PRT-60641B

The applicant requests a permit to export one male and one female captive-bred cheetah (Acinonyx jubatus) for the purpose enhancement of the survival of the species through reintroduction to the wild.

Applicant: California Academy of Sciences, San Francisco, CA; PRT-58979B

The applicant requests a permit to import one skull of a wild brown hyena (Parahyaena brunnea), for the purpose of scientific research. This notification covers activities to be conducted by the applicant over a 1-year period.

Applicant: Recordbuck Ranch, Utopia, TX; PRT-64797A

The applicant requests a permit authorizing interstate and foreign commerce, export, and cull of excess Barasingha (Rucervus duvaucelii), Arabian oryx (Oryx leucoryx), and Red lechwe (Kobus lechwe) from the captive herd maintained at their facility, for the purpose of enhancement of the survival of the species. This notification covers activities to be conducted by the applicant over a 5-year period

Applicant: Brady Champion Ranch, LLC, Rochelle, TX; PRT-51130B

The applicant requests a captive-bred wildlife registration under 50 CFR 17.21(g) for the species listed below to enhance species propagation or survival: Grevy's zebra (Equus grevyi), Hartmann's mountain zebra (Equus zebra hartmannae), Przewalski's horse (Equus przewalskii), Barasingha (Rucervus duvaucelii), Eld's brow-antlered deer (Rucervus eldii), Bontebok (Damaliscus pygargus pygargus), Cuvier's gazelle (Gazella cuvieri), Arabian oryx (Oryx leucoryx), Red lechwe (Kobus lechwe), Seladang (Bos gaurus), and Banteng (Bos javanicus). This notification covers activities to be conducted by the applicant over a 5-year period.

Applicant: Washington Park Zoo, IN; PRT-58205B

The applicant requests a captive-bred wildlife registration under 50 CFR 17.21(g) for the following species to enhance species propagation or survival: Ring-tailed lemur (Lemur catta) and Cottontop tamarin (Saguinus oedipus). This notification covers activities to be conducted by the applicant over a 5-year period.

Applicant: Sam Noble Oklahoma Museum of Natural History, Norman, OK: PRT-075249

The applicant requests renewal of their permit to export and reimport nonliving museum specimens of endangered and threatened species previously accessioned into the applicant's collection for scientific research. This notification covers activities to be conducted by the applicant over a 5-year period.

Applicant: Timothy Twietmeyer, Weston, FL; PRT-70086B

The applicant requests a permit to import a sport-hunted trophy of one male bontebok (Damaliscus pygargus pygargus) culled from a captive herd maintained under the management program of the Republic of South Africa, for the purpose of enhancement of the survival of the species.

B. Endangered Marine Mammals and Marine Mammals

Applicant: Melissa McKinney, Storrs, CT; PRT-59633B

The applicant requests a permit to import and export wild walrus (Odobenus rosmarus divergens), (Odobenus rosmarus rosmarus), and polar bear (Ursus maritimus) biological samples for the purpose of scientific research. This notification covers activities to be conducted by the applicant over a 5-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2015-18041 Filed 7-22-15; 8:45 am]

BILLING CODE 4310-55-P